DEPARTMENT OF ENERGY

Federal Energy Regulatory Commission

[Project No. 2071-090]

PacifiCorp; Notice of Availability of Environmental Assessment

In accordance with the National Environmental Policy Act of 1969 and the Federal Energy Regulatory Commission's (Commission or FERC) regulations, 18 CFR part 380, Commission staff reviewed PacifiCorp's application for a license amendment of the Yale Hydroelectric Project No. 2071 and has prepared an Environmental Assessment (EA) for the project.¹ The licensee proposes to install a rock filter and drain berm on the downstream side of the Yale saddle dam. A new toe ditch would collect seepage intercepted by the filter and drain berm and route it into a drainage swale below the dam. The licensee also proposes to place additional riprap on the upstream side of the Yale saddle dam, requiring a 2-week-long reservoir drawdown. The Yale Hydroelectric Project is located on the Lewis River in Clark and Cowlitz counties, Washington and occupies federal land administered by the U.S. Bureau of Land Management.

¹ The unique identification number for documents relating to this environmental review is EAXX-019-20-000-1727194731.

The EA contains Commission staff's analysis of the potential environmental effects of the proposed modifications to the Yale saddle dam, alternatives to the proposed action, and concludes that the proposed amendment, with appropriate environmental protective measures, would not constitute a major federal action that would significantly affect the quality of the human environment.

The EA may be viewed on the Commission's website at https://www.ferc.gov using the “elibrary” link. Enter the docket number (P-2071) in the docket number field to access the document. For assistance, contact FERC Online Support at FERCOnlineSupport@ferc.gov or toll-free at 1-866-208-3676, or for TTY, (202) 502-8659.

You may also register online at https://www.ferc.gov/docs-filing/esubscription.asp to be notified via email of new filings and issuances related to this or other pending projects. For assistance, contact FERC Online Support.

All comments must be filed by June 23, 2025.

The Commission strongly encourages electronic filing. Please file comments using the Commission's eFiling system at https://www.ferc.gov/docs-filing/efiling.asp. Commenters can submit brief comments up to 6,000 characters, without prior registration, using the eComment system at https://www.ferc.gov/docs-filing/ecomment.asp. For assistance, please contact FERC Online Support. In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket numbers P-2071-090.

The Commission's Office of Public Participation (OPP) supports meaningful public engagement and participation in Commission proceedings. OPP can help members of the public, including landowners, Tribal members, and others, access publicly available information and navigate Commission processes. For public inquiries and assistance with making filings such as interventions, comments, or requests for rehearing, the public is encouraged to contact OPP at (202) 502-6595 or OPP@ferc.gov.

For further information, contact Steven Sachs at 202-502-8666 or steven.sachs@ferc.gov.

Dated: May 22, 2025.
Debbie-Anne A. Reese,
Secretary.

[FR Doc. 2025-09671 Filed 5-28-25; 8:45 am]

BILLING CODE 6717-01-P